FEDERAL RESERVE SYSTEM

Notice of Proposals to Engage in Permissible Nonbanking Activities or to Acquire Companies that are Engaged in Permissible Nonbanking Activities; Correction

This notice corrects a notice (FR Doc. E8-23644) published on pages 58592 and 58593 of the issue for Tuesday, October 7, 2008.

Under the Federal Reserve Bank of Richmond, the entry for Bank of America Corporation, Charlotte, North Carolina, is revised to read as follows:

A. Federal Reserve Bank of Richmond (A. Linwood Gill, III, Vice President) 701 East Byrd Street, Richmond, Virginia 23261-4528:

1. Bank of America Corporation, Charlotte, North Carolina, to acquire 100 percent of the voting shares of Merrill Lynch Bank & Trust Co., FSB, New York, New York, and Merrill Lynch Bank USA, Salt Lake City, Utah, and thereby engage in operating a savings association and an industrial bank, pursuant to section 225.28(b)(4) of Regulation Y.

In connection with the above application, Bank of America Corporation, Charlotte, North Carolina, has also applied to acquire up to 19.9 percent of the voting shares of Merrill Lynch & Company, Inc., New York, New York, and thereby engage in operating a savings association and an industrial bank, pursuant to section 225.28(b)(4) of Regulation Y.

Comments on this application must be received by October 31, 2008.

Board of Governors of the Federal Reserve System, October 8, 2008.
Robert deV. Frierson,
Deputy Secretary of the Board.

[FR Doc. E8-24346 Filed 10-14-08; 8:45 am]

BILLING CODE 6210-01-S